DEPARTMENT OF ENERGY

Federal Energy Regulatory Commission

Combined Notice of Filings #2

Take notice that the Commission received the following electric rate filings:

Docket Numbers: ER10-1836-006; ER10-2005-006; ER11-26-006; ER10-1838-005; ER10-2551-005; ER10-1915-005; ER12-569-006; ER10-1841-006; ER13-712-005; ER10-1843-006; ER10-1844-006; ER10-1845-006; ER10-1846-005; ER13-1991-003; ER13-1992-003; ER10-1847-006; ER10-1849-005; ER11-2037-005; ER13-752-004; ER12-2227-005; ER10-1851-005; ER10-1852-006; ER10-1855-005; ER10-1856-006; ER10-1857-005; ER10-1887-005; ER10-1890-006; ER10-1897-006; ER10-1899-005; ER10-1902-005; ER10-1903-005; ER11-2160-006; ER10-1905-006; ER10-1906-005; ER10-1907-006; ER10-1918-006; ER10-1920-007; ER10-1925-006; ER10-1927-006; ER10-1928-007; ER11-2642-006; ER10-1930-005; ER10-1931-006; ER10-1932-005; ER10-1935-005; ER10-1950-006; ER13-2112-002; ER10-1952005; ER11-3635-006; ER10-2006-007; ER10-1961-005; ER12-1228-006; ER10-1962-006; ER10-1963-005; ER10-1964-006; ER10-1965-006; ER12-2226-005; ER12-2225-005; ER10-1966-006; ER10-1967-005; ER10-1968-005; ER10-2720-007; ER11-4428-007; ER12-1880-006; ER12-895-005; ER14-21-003; ER11-4462-008; ER10-1970-006; ER11-4677-007; ER10-1971-015; ER10-1972-006; ER10-1973-005; ER10-1951-006; ER10-1974-013; ER10-1975-013; ER12-2444-006; ER10-1976-006; ER10-1983-006; ER10-1984-006; ER11-2365-006; ER10-1985-006; ER10-1986-005; ER12-676-006; ER13-2461-001; ER13-2462-001; ER11-2192-007; ER10-1989-006; ER10-1990-005; ER10-1991-006; ER12-1660-006; ER13-2458-001; ER11-4678-007; ER10-1992-006; ER10-1993-005; ER10-1994-005; ER10-2078-007; ER10-1995-005; ER12-631-007.

Applicants: Ashtabula Wind, LLC, Ashtabula Wind II, LLC, Ashtabula Wind III, LLC, Backbone Mountain Windpower LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Desert Sunlight 250, LLC, Desert Sunlight 300, LLC, Diablo Winds, LLC, Elk City Wind, LLC, Elk City II Wind, LLC, Energy Storage Holdings, LLC, Ensign Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle L.L.C., FPL Energy Wyman, LLC, FPL Energy Wyman IV, LLC, Garden Wind, LLC, Genesis Solar, LLC, Gray County Wind Energy, LLC, Hatch Solar Energy Center I, LLC, Hawkeye Power Partners, LLC, High Majestic Wind Energy Center, LLC, High Majestic Wind II, LLC, High Winds, LLC, Jamaica Bay Peaking Facility, LLC, Lake Benton Power Partners II, LLC, Langdon Wind, LLC, Limon Wind, LLC, Limon Wind II, LLC, Logan Wind Energy LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Power Marketing, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Paradise Solar Urban Renewal, L.L.C., Peetz Table Wind Energy, LLC, Pennsylvania Windfarms, Inc., Perrin Ranch Wind, LLC, Pheasant Run Wind, LLC, Pheasant Run Wind II, LLC, Red Mesa Wind, LLC, Sky River LLC, Somerset Windpower, LLC, Story Wind, LLC, Tuscola Bay Wind, LLC, Tuscola Wind II, LLC, Vasco Winds, LLC, Victory Garden Phase IV, LLC, Waymart Wind Farm, L.P., Wessington Wind Energy Center, LLC, White Oak Energy LLC, Wilton Wind II, LLC, Windpower Partners 1993, LLC.

Description: NextEra Resources Entities Notification of Non-Material Change in Status under ER10-1836, et al.

Filed Date: 12/23/13.

Accession Number: 20131223-5284.

Comments Due: 5 p.m. ET 2/18/14.

Docket Numbers: ER10-3160-001.

Applicants: The United Illuminating Company.

Description: Triennial Market Power Analysis of The United Illuminating Company.

Filed Date: 1/27/14.

Accession Number: 20140127-5129.

Comments Due: 5 p.m. ET 3/28/14.

Docket Numbers: ER14-207-001.

Applicants: PJM Interconnection, L.L.C.

Description: Compliance filing per 12/26/2013 Order in ER14-207 to be effective 12/28/2013.

Filed Date: 1/27/14.

Accession Number: 20140127-5134.

Comments Due: 5 p.m. ET 2/18/14.

Docket Numbers: ER14-974-001.

Applicants: Northern Indiana Public Service Company.

Description: Amendment Filing of NIPSCO to be effective 3/12/2014.

Filed Date: 1/27/14.

Accession Number: 20140127-5165.

Comments Due: 5 p.m. ET 2/18/14.

Docket Numbers: ER14-1160-000.

Applicants: Midcontinent Independent System Operator, Inc.

Description: 2014-01-27_SA 2407_FibroMinn-GRE GIA G034 to be effective 1/28/2014.

Filed Date: 1/27/14.

Accession Number: 20140127-5116.

Comments Due: 5 p.m. ET 2/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2014.
Nathaniel J. Davis, Sr.,
Deputy Secretary.

[FR Doc. 2014-02237 Filed 2-3-14; 8:45 am]

BILLING CODE 6717-01-P